DEPARTMENT OF TRANSPORTATION

Federal Railroad Administration

[Docket No. FRA-2020-0013]

Program Approval: CSX Transportation

AGENCY: Federal Railroad Administration (FRA), Department of Transportation (DOT).

ACTION: Notice of approval.

SUMMARY: FRA is issuing this notice to explain its rationale for approving a CSX Transportation (CSX) Test Program designed to test track inspection technologies (i.e., an autonomous track geometry measurement system) and new operational approaches to track inspections, as well as its rationale for granting a limited, temporary suspension of a substantive FRA rule that is necessary to facilitate the conduct of the Test Program.

FOR FURTHER INFORMATION CONTACT: Yu-Jiang Zhang, Staff Director, Track Division, Office of Railroad Safety, FRA, 1200 New Jersey Avenue SE, Washington, DC 20590, telephone (202) 493-6460 or email yujiang.zhang@dot.gov; Aaron Moore, Attorney, Office of Chief Counsel, FRA, 1200 New Jersey Avenue SE, Washington, DC 20590, telephone (202) 493-7009 or email aaron.moore@dot.gov.

SUPPLEMENTARY INFORMATION: On November 25, 2019, CSX petitioned FRA under Title 49 Code of Federal Regulations (CFR) Section 211.51 to suspend certain requirements of FRA's track safety regulations to conduct a program to test new track inspection technologies (i.e., an autonomous track geometry measurement system) and new operational approaches to track inspections. CSX also submitted a written Test Program providing a description of the proposed tests and the geographic scope of the testing territory.

The Test Program specifies that the tests will be conducted on two separate segments totaling approximately 1,818 miles of main and siding tracks in 13 subdivisions of CSX's Chicago, Great Lakes, Northern, and Jacksonville Zones.

The Test Program is designed to test autonomous track geometry measurement systems and gradually decreased manual visual inspections as an alternative to FRA's inspection frequency requirements. CSX indicates that it will continue to use other inspection technologies during the Test Program, including: (1) Vehicle Track Interaction monitoring systems; (2) Sperry joint bar crack detection systems; (3) Georgetown Rail's Aurora Tie Inspection technology; (4) ground penetrating radar; (5) lidar; and (6) laser rail profiling and cant measurements. The Test Program will be carried out in three separate phases over the course of 18 months as detailed in Exhibit C of the Test Program (available for review at www.regulations.gov (docket number FRA-2020-0013)).

After review and analysis of CSX's petition for approval of its Test Program, subject to certain conditions designed to ensure safety, FRA approved CSX's Test Program and suspended the requirements of 49 CFR 213.233(c) as necessary to carry out the Test Program. A copy of FRA's letter approving CSX's Test Program and granting the requested limited temporary suspension of 49 CFR 213.233(c), as well as a complete copy of the Test Program, is available in docket number FRA-2020-0013 at www.regulations.gov. FRA's letter approving CSX's Test Program and granting the requested limited temporary suspension of certain regulations specifically details the conditions CSX will need to undertake during the Test Program. As required by 49 CFR 211.51(c), FRA is providing this explanatory statement describing the Test Program.

As explained more fully in its approval letter, FRA finds that the temporary, limited suspension of 49 CFR 213.233(c) is necessary to the conduct of the approved Test Program, which is specifically designed to evaluate the effectiveness of new automated track inspection technologies and operational methods. Furthermore, FRA also finds that the scope and application of the granted suspension of 49 CFR 213.233(c) as applied to the Test Program are limited to that necessary to conduct the Test Program. Finally, FRA's approval letter outlines the conditions of the Test Program that will ensure standards sufficient to assure safety.

John Karl Alexy,
Associate Administrator for Railroad Safety, Chief Safety Officer.

[FR Doc. 2020-04655 Filed 3-5-20; 8:45 am]

BILLING CODE 4910-06-P